DEPARTMENT OF COMMERCE

National Oceanic and Atmospheric Administration

[I.D. 042001B]

Sea Grant Program Application Requirements for Grants, for John A. Knauss Marine Policy Fellowships, and for Designation as a Sea Grant College or Regional Consortia

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before June 25, 2001.

ADDRESSES: Direct all written comments to Madeleine Clayton, Departmental Paperwork Clearance Officer, Department of Commerce, Room 6086, 14th and Constitution Avenue NW, Washington, DC 20230 (or via Internet at MClayton@doc.gov).

FOR FURTHER INFORMATION CONTACT: Requests for additional information or copies of the information collection instrument(s) and instructions should be directed to Francis Schuler, R/SG, Room 11837, 1315 East-West Highway, Silver Spring MD 20910-3282 (phone 301-713-2445, ext. 158).

SUPPLEMENTARY INFORMATION:

I. Abstract

The objectives of the National Sea Grant College Program are to increase the understanding, assessments, development, utilization, and conservation of the Nation's ocean, coastal, and Great Lakes resources. It accomplishes these objectives by conducting research, education, and outreach programs. The law provides for the designation of an institution of higher education as a Sea Grant College, and for the designation of regional consortia, institutes, laboratories, or state or local agencies as Sea Grant Programs if they are pursuing these same objectives. Fellowships may also be awarded for marine policy fellowships. Applications must be submitted for such designations or fellowships.

Grant monies are available for funding activities that help obtain the objectives of the Sea Grant Program. Both single and multi-project grants are awarded, with the latter representing about 80 percent of the total grant program. In addition to the SF-424 and other standard grant application requirements, three additional forms are required with a grant application. These are the Sea Grant Control Form, used to identify the organizations and personnel who would be involved in the grant; the Project Record Form, which collects summary date on projects; and the Sea Grant Budget, used in place of the SF 424a or 424c.

II. Method of Collection

Responses are made in a variety of formats, including forms and narrative paper submissions. The Project Record Form must be submitted in electronic format. The Sea Grant Budget form may be submitted electronically.

III. Data

OMB Number: 0648-0362.

Form Number: NOAA Forms 90-1, 90-2, and 90-4.

Type of Review: Regular submission.

Affected Public: State, Local, or Tribal Government; and not-for-profit institutions.

Estimated Number of Respondents: 91.

Estimated Time Per Response: 30 minutes for a Sea Grant Control form, 20 minutes for a Project Record Form, 15 minutes for a Sea Grant Budget form, 20 hours for an application for designation as a Sea Grant College or Regional Consortia, and 2 hours for an application for a John A. Knauss Marine Policy Fellowship.

Estimated Total Annual Burden Hours: 580.

Estimated Total Annual Cost to Public: $1,026.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2001.
Gwellnar Banks,
Management Analyst, Office of the Chief Information Officer.

[FR Doc. 01-10264 Filed 4-24-01; 8:45 am]

BILLING CODE 3510-KA-S